DEPARTMENT OF COMMERCE

National Oceanic and Atmospheric Administration

RIN 0648-XB129

New England Fishery Management Council; Public Meeting

AGENCY: National Marine Fisheries Service (NMFS), National Oceanic and Atmospheric Administration (NOAA), Commerce.

ACTION: Notice of cancellation of a public meeting.

SUMMARY: The New England Fishery Management Council (Council) has cancelled the public meeting of its Scientific and Statistical Committee (SSC) that was scheduled for Monday, April 16, 2012 beginning at 8 a.m. in Providence, RI.

FOR FURTHER INFORMATION CONTACT: Paul J. Howard, Executive Director, New England Fishery Management Council; telephone: (978) 465-0492.

SUPPLEMENTARY INFORMATION: The initial notice was published on March 30, 2012, (77 FR 19231), and the meeting will be rescheduled at a later date and announced in the Federal Register.

Authority: 16 U.S.C. 1801 et seq.

Dated: April 2, 2012.
William D. Chappell,
Acting Director, Office of Sustainable Fisheries National Marine Fisheries Service.

[FR Doc. 2012-8224 Filed 4-4-12; 8:45 am]

BILLING CODE 3510-22-P